DEPARTMENT OF TRANSPORTATION

Federal Aviation Administration

14 CFR Part 39

[Docket No. 2002-NM-60-AD]

RIN 2120-AA64

Airworthiness Directives; Dornier Model 328-100 and -300 Series Airplanes

AGENCY: Federal Aviation Administration, DOT.

ACTION: Notice of proposed rulemaking (NPRM).

SUMMARY: This document proposes the adoption of a new airworthiness directive (AD) that is applicable to certain Dornier Model 328-100 and -300 series airplanes. This proposal would require inspection of the nose landing gear (NLG) and main landing gear (MLG) to ensure that certain bolts are in place; repetitive inspections of the bolts and bolt areas for evidence of corrosion; and corrective action, if necessary. This action is necessary to prevent failure of the NLG or MLG due to corroded or missing bolts, which could cause loss of connection pins, and consequent collapse of the landing gear during ground maneuvers or upon landing. This action is intended to address the identified unsafe condition.

DATES: Comments must be received by August 8, 2003.

ADDRESSES: Submit comments in triplicate to the Federal Aviation Administration (FAA), Transport Airplane Directorate, ANM-114, Attention: Rules Docket No. 2002-NM-60-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2002-NM-60-AD” in the subject line and need not be submitted in triplicate. Comments sent via the Internet as attached electronic files must be formatted in Microsoft Word 97 or 2000 or ASCII text.

The service information referenced in the proposed rule may be obtained from Fairchild Dornier GmbH, P.O. Box 1103, D-82230 Wessling, Germany. This information may be examined at the FAA, Transport Airplane Directorate, 1601 Lind Avenue, SW., Renton, Washington.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-60-AD.” The postcard will be date stamped and returned to the commenter.

Availability of NPRMs

Any person may obtain a copy of this NPRM by submitting a request to the FAA, Transport Airplane Directorate, ANM-114, Attention: Rules Docket No. 2002-NM-60-AD, 1601 Lind Avenue, SW., Renton, Washington 98055-4056.

Discussion

The Luftfahrt-Bundesamt (LBA), which is the airworthiness authority for Germany, notified the FAA that an unsafe condition may exist on certain Dornier Model 328-100 and -300 series airplanes. The LBA advises that operators have reported severely corroded bolts on the landing gear, including actuator bolts on the main landing gear (MLG). In another case, an inspection revealed that a brace assembly bolt on the nose landing gear (NLG) was missing. Corrosion of the bolts may lead to bolt failure, which may lead to loss of one or more of the bolts in the landing gear assemblies. The bolts secure connection pins; with the bolts missing or failed, the connection pins will migrate due to vibration and eventually fall out. This condition, if not corrected, could result in failure of the NLG or MLG due to corroded or missing bolts, which could cause loss of connection pins, and consequent collapse of the landing gear during ground maneuvers or upon landing.

Explanation of Relevant Service Information

Dornier has issued Service Bulletins SB-328-32-414 (for Model 328-100 series airplanes) and SB-328J-32-147 (for Model 328-300 series airplanes), both dated December 3, 2001, which describe procedures for inspecting the NLG and MLG to ensure that certain bolts are in place, and replacing any bolts that are missing or out of place, with bolts having the same part number. The service bulletins also describe procedures for removing the nuts, bolts, and washers of the NLG and MLG, and inspecting for evidence of corrosion; replacing the bolt with a part having the same part number; and applying corrosion prevention compound to the bolt shaft. Accomplishment of the actions specified in the service bulletins is intended to adequately address the identified unsafe condition. The LBA classified these service bulletins as mandatory and issued German airworthiness directives 2002-014/2 (for Model 328-100 series airplanes) and 2002-015/2 (for Model 328-300 series airplanes), both dated March 7, 2002, to ensure the continued airworthiness of these airplanes in Germany.

FAA's Conclusions

These airplane models are manufactured in Germany and are type certificated for operation in the United States under the provisions of section 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of these type designs that are certificated for operation in the United States.

Explanation of Requirements of Proposed Rule

Since an unsafe condition has been identified that is likely to exist or develop on other airplanes of the same type design registered in the United States, the proposed AD would require accomplishment of the actions specified in the service bulletins described previously, except as discussed below.

Differences Between Proposed Rule, German Airworthiness Directives, and Relevant Service Bulletins

Operators should note that, although the German airworthiness directives and the referenced service bulletins specify inspecting for bolt placement prior to the next flight for airplanes “with more than 4,000 flight hours or 24 months since new,” this proposed AD would require that inspection to be done at the later of these times: (1) Within 4,000 total flight hours, or within 24 months since the date of issuance of the original Airworthiness Certificate, or within 24 months since the date of issuance of the Export Certificate of Airworthiness, whichever occurs first; or (2) within 6 days after the effective date of the AD.

Operators should also note that, although the German airworthiness directives and the referenced service bulletins specify inspecting for corrosion on bolts at the next “A-check,” this proposed AD would require that inspection to be done within 400 flight hours or 6 months after accomplishing the inspection for bolt placement.

Operators should also note that, although the German airworthiness directives require the removal, inspections, and replacement of corroded bolts and washers with new bolts and washers of the same part number to be one-time actions, this proposed AD would require that those actions be repeated at intervals not to exceed 4,000 flight hours or 24 months, whichever occurs first.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance. Because we have now included this material in part 39, only the office authorized to approve AMOCs is identified in each individual AD.

Cost Impact

The FAA estimates that 53 Model 328-100 series airplanes and 39 Model 328-300 series airplanes of U.S. registry would be affected by this proposed AD, that it would take approximately 1 work hour per airplane to accomplish the proposed inspection for bolt placement, and that the average labor rate is $60 per work hour. Based on these figures, the cost impact on U.S. operators for the proposed inspection for bolt placement is estimated to be $5,520, or $60 per airplane.

The FAA estimates that it would take approximately 5 work hours per airplane to accomplish the proposed inspection for corrosion, and that the average labor rate is $60 per work hour. Based on these figures, the cost impact on U.S. operators for the proposed inspection for corrosion is estimated to be $27,600, or $300 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fairchild Dornier GMBH: Docket 2002-NM-60-AD.

Applicability: Model 328-100 series airplanes having serial numbers 3005 through 3119 inclusive, and Model 328-300 series airplanes having serial numbers 3105 through 3200 inclusive; certificated in any category.

Compliance: Required as indicated, unless accomplished previously.

To prevent failure of the nose landing gear (NLG) or main landing gear (MLG) due to corroded or missing bolts, which could cause loss of connection pins, and consequent collapse of the landing gear during ground maneuvers or upon landing, accomplish the following:

Service Bulletin Reference

(a) The term “service bulletin,” as used in this AD, means the Accomplishment Instructions of the following service bulletins, as applicable:

(1) For Model 328-100 series airplanes: Dornier Service Bulletin SB-328-32-414, dated December 3, 2001.

(2) For Model 328-300 series airplanes: Dornier Service Bulletin SB-328J-32-147, dated December 3, 2001.

Inspection of Bolt Placement

(b) Perform a one-time general visual inspection of the NLG and MLG to ensure that the bolts are in place, per paragraph 2.B1) of the applicable service bulletin. Do the inspection at the later of the times specified in paragraphs (b)(1) and (b)(2) of this AD. If all bolts are in place, no further action is required by this paragraph.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) Within 4,000 total flight hours, or within 24 months since the date of issuance of the original Airworthiness Certificate, or within 24 months since the date of issuance of the Export Certificate of Airworthiness, whichever occurs first.

(2) Within 6 days after the effective date of this AD.

Corrective Action

(c) During the inspection required by paragraph (b) of this AD, if any bolt is missing or is not in position: Prior to further flight, replace the bolt with a bolt having the same part number, per the applicable service bulletin.

Inspections for Corrosion

(d) Within 400 flight hours or 6 months after accomplishing the inspection required by paragraph (b) of this AD, whichever occurs first: Remove the nuts, bolts, and washers of the NLG and MLG, and perform a detailed inspection for evidence of corrosion. Do the inspection per the applicable service bulletin. Repeat the inspection thereafter at intervals not to exceed 4,000 flight hours or 24 months, whichever occurs first.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no evidence of corrosion is found on any part, or if a new bolt is installed: Prior to further flight, apply corrosion prevention compound to the bolt shaft and install the bolt, per the applicable service bulletin.

(2) If any evidence of corrosion is found: Prior to further flight, replace the bolt with a part having the same part number and apply corrosion prevention compound to the bolt shaft and install the bolt, per the applicable service bulletin.

Alternative Methods of Compliance

(e) In accordance with 14 CFR 39.19, the Manager, International Branch, ANM-116, FAA, is authorized to approve alternative methods of compliance for this AD.

Note 3: The subject of this AD is addressed in German airworthiness directives 2002-014/2 and 2002-015/2, both dated March 7, 2002.

Issued in Renton, Washington, on July 1, 2003.
Vi L. Lipski,
Manager, Transport Airplane Directorate, Aircraft Certification Service.

[FR Doc. 03-17314 Filed 7-8-03; 8:45 am]

BILLING CODE 4910-13-U